DEPARTMENT OF ENERGY

Federal Energy Regulatory Commission

Combined Notice of Filings #1

Take notice that the Commission received the following electric corporate filings:

Docket Numbers: EC23-74-000.

Applicants: Energy Harbor Corp.

Description: Energy Harbor Corp. and Vistra Corp. submits Response to FERC's August 17, 2023, Deficiency Letter and Request for Additional Information.

Filed Date: 9/18/23.

Accession Number: 20230918-5132.

Comment Date: 5 p.m. ET 10/10/23.

Docket Numbers: EC23-119-000.

Applicants: Sojitz Corporation of America, AL Blueway Holdings, LLC.

Description: Supplement to August 11, 2023 Joint Application for Authorization Under Section 203 of the Federal Power Act of Sojitz Corporation of America, et al.

Filed Date: 8/21/23

Accession Number: 20230823-0025.

Comment Date: 5 p.m. ET 10/10/23.

Take notice that the Commission received the following exempt wholesale generator filings:

Docket Numbers: EG23-294-000.

Applicants: HORIZON HILL WIND, LLC.

Description: Horizon Hill Wind, LLC submits Notice of Self-Certification of Exempt Wholesale Generator Status.

Filed Date: 9/19/23.

Accession Number: 20230919-5035.

Comment Date: 5 p.m. ET 10/10/23.

Docket Numbers: EG23-295-000.

Applicants: White Rock Wind East, LLC.

Description: White Rock Wind East, LLC submits Notice of Self-Certification of Exempt Wholesale Generator Status.

Filed Date: 9/19/23.

Accession Number: 20230919-5038.

Comment Date: 5 p.m. ET 10/10/23.

Docket Numbers: EG23-296-000.

Applicants: White Rock Wind West, LLC.

Description: White Rock Wind West, LLC submits Notice of Self-Certification of Exempt Wholesale Generator Status.

Filed Date: 9/19/23.

Accession Number: 20230919-5039.

Comment Date: 5 p.m. ET 10/10/23.

Docket Numbers: EG23-297-000.

Applicants: House Mountain LLC.

Description: House Mountain LLC submits Notice of Self-Certification of Exempt Wholesale Generator Status.

Filed Date: 9/19/23.

Accession Number: 20230919-5078.

Comment Date: 5 p.m. ET 10/10/23.

Take notice that the Commission received the following electric rate filings:

Docket Numbers: ER23-2222-002.

Applicants: Southwest Power Pool, Inc.

Description: Tariff Amendment: 2881R16 City of Chanute, KS NITSA NOA to be effective 9/1/2023.

Filed Date: 9/19/23.

Accession Number: 20230919-5074.

Comment Date: 5 p.m. ET 10/10/23.

Docket Numbers: ER23-2359-002.

Applicants: PJM Interconnection, L.L.C.

Description: Tariff Amendment: Amendment to ISA/CSA SA Nos. 6967 & 6968; Queue AD2-100/131-Docket No. ER23-2359 to be effective 9/6/2023.

Filed Date: 9/19/23.

Accession Number: 20230919-5042.

Comment Date: 5 p.m. ET 10/10/23.

Docket Numbers: ER23-2567-000.

Applicants: EnerSmart Los Coches BESS LLC.

Description: Report Filing: Supplement to Market-Based Application to be effective N/A.

Filed Date: 9/14/23.

Accession Number: 20230914-5042.

Comment Date: 5 p.m. ET 9/25/23.

Docket Numbers: ER23-2888-000.

Applicants: Duke Energy Florida, LLC.

Description: Notice of Cancellation of Service Agreements of Duke Energy Florida, LLC.

Filed Date: 9/15/23.

Accession Number: 20230915-5227.

Comment Date: 5 p.m. ET 10/6/23.

Docket Numbers: ER23-2890-000.

Applicants: Alabama Power Company, Georgia Power Company, Mississippi Power Company.

Description: § 205(d) Rate Filing: Alabama Power Company submits tariff filing per 35.13(a)(2)(iii: CROS bn (Crossroads Solar + BESS) LGIA Filing to be effective 9/12/2023.

Filed Date: 9/19/23.

Accession Number: 20230919-5063.

Comment Date: 5 p.m. ET 10/10/23.

Docket Numbers: ER23-2891-000.

Applicants: Alabama Power Company, Georgia Power Company, Mississippi Power Company.

Description: § 205(d) Rate Filing: Alabama Power Company submits tariff filing per 35.13(a)(2)(iii: Sandhills 2 Solar Amended and Restated LGIA Filing to be effective 9/6/2023.

Filed Date: 9/19/23.

Accession Number: 20230919-5065.

Comment Date: 5 p.m. ET 10/10/23.

Docket Numbers: ER23-2892-000.

Applicants: AEP Texas Inc.

Description: § 205(d) Rate Filing: AEPTX-AP Solar 4 2nd A&R Generator Interconnection Agreement to be effective 8/29/2023.

Filed Date: 9/19/23.

Accession Number: 20230919-5093.

Comment Date: 5 p.m. ET 10/10/23.

Docket Numbers: ER23-2893-000; TS23-8-000.

Applicants: Horus West Virginia I, LLC, Horus West Virginia I, LLC.

Description: Horus West Virginia I, LLC Requests Temporary Tariff Waiver.

Filed Date: 9/15/23.

Accession Number: 20230915-5233.

Comment Date: 5 p.m. ET 10/6/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202)502-6595 or OPP@ferc.gov.

Dated: September 19, 2023.
Debbie-Anne A. Reese,
Deputy Secretary.

[FR Doc. 2023-20734 Filed 9-22-23; 8:45 am]

BILLING CODE 6717-01-P